DEPARTMENT OF DEFENSE

Department of the Navy

Record of Decision for the Disposal and Reuse of Marine Corps Air Station Tustin, California

SUMMARY: The Department of the Navy (Navy), pursuant to Section 102(2)(C) of the National Environmental Policy Act of 1969 (NEPA), 42 U.S.C. 4332(2)(C) (1994), and the regulations of the Council on Environmental Quality that implement NEPA procedures, 40 CFR Parts 1500-1508, hereby announces its decision to dispose of Marine Corps Air Station (MCAS) Tustin, which is located in Tustin, California.

Navy and the City of Tustin jointly analyzed the impacts of the disposal and reuse of MCAS Tustin in an Environmental Impact Statement/Environmental Impact Report (EIS/EIR), as prescribed by NEPA and the California Environmental Quality Act (CEQA), Cal. Pub. Res. Code, §§ 21000-21177. The City of Tustin is the Local Redevelopment Authority (LRA) for MCAS Tustin, as defined in the Department of Defense Rule on Revitalizing Base Closure Communities and Community Assistance (DoD Rule), 32 CFR 176.20(a).

The City of Tustin's proposed reuse of MCAS Tustin is set forth in the Marine Corps Air Station (MCAS) Tustin Specific Plan/Reuse Plan, dated October 1996, as modified by the MCAS Tustin Specific Plan/Reuse Plan Errata, dated September 1998 (Reuse Plan). The Reuse Plan is set out in Chapters 1, 2 (except Section 2.17), and 5 of these documents. The Specific Plan, which includes the Reuse Plan, describes the proposed design for redevelopment of the base as well as certain private property adjacent to the base. The EIS/EIR analyzed three reuse alternatives and identified the Reuse Plan as Alternative 1. Navy will dispose of the base in accordance with Alternative 1.

The alternative chosen will use the base for residential, commercial, educational, research and development, and light industrial purposes, to develop parks and recreational areas, and to build access roads. These land uses will complement the urban character of the City of Tustin and the surrounding area, and meet the Navy goals of achieving local economic redevelopment, creating new jobs, and providing additional housing, while limiting adverse environmental impacts and ensuring land uses that are generally compatible with adjacent property. Selection of the specific means to achieve the proposed redevelopment is in the hands of the acquiring entities and the local zoning authorities.

Background

Under the authority of the Defense Base Closure and Realignment Act of 1990 (DBCRA), Public Law 101-510, 10 U.S.C. 2687 note (1994), the 1991 Defense Base Closure and Realignment Commission recommended the closure of Marine Corps Air Station Tustin. The Commission also recommended that Navy retain the Air Station's family housing and related personnel facilities to support those stationed at the nearby Marine Corps Air Station El Toro. These recommendations were approved by President Bush and accepted by the One Hundred Second Congress in 1991.

The 1993 Defense Base Closure and Realignment Commission recommended the closure of MCAS El Toro. Thus, it was no longer necessary to retain the family housing and related personnel support facilities at MCAS Tustin, and these facilities were also closed. The recommendation to close MCAS El Toro was approved by President Clinton and accepted by the One Hundred Third Congress in September 1993. The Air Stations at Tustin and El Toro closed on July 2, 1999.

Description of the Installation

Marine Corps Air Station Tustin covers an area of about 1,602 acres, and nearly all of the property is located in the City of Tustin, near the center of Orange County. About 95 acres are located in the City of Irvine. The City of Santa Ana lies west and northwest of the Air Station. The main property, located largely within the City of Tustin, covers about 1,503 acres and contains the air operations facilities personnel support facilities, and most of the military family housing units. A second property, located south of the main property in the City of Irvine along Harvard Avenue between Barranca Parkway and Warner Avenue, covers 74 acres and also contains military family housing units. A third property, located east of the main property in Tustin at the intersection of Edinger Avenue and Harvard Avenue, covers 25 acres.

The aviation facilities at MCAS Tustin consist of one runway, about 2,000 feet long, oriented in an east-west alignment, four helicopter parking aprons, four helicopter hangers, and other airfield support facilities that are located in the center of the base. Two large blimp hangars (Hangars 28 and 29), each about 175 feet tall and about 1,000 feet long, are also located in this area. These wood-frame structures were built in 1942 and are listed on the National Register of Historic Places. The two blimp hangars, five blimp mooring mats constitute an historic district eligible for listing on the National Register of Historic Places.

The gate at the intersection of Redhill Avenue and Valencia Avenue provides the primary access to MCAS Tustin. There is a secondary access, currently closed except for emergencies, at the intersection of Harvard Avenue and Moffett Avenue. Personnel support, administrative, storage, and medical facilities and barracks form a campus-like setting around the main gate in the northeastern part of the base. Recreational facilities, composed of athletic fields, playgrounds, and picnic areas, separate a residential neighborhood of 274 housing units along Edinger Avenue from the personnel support and administrative areas of the base. There are cultivated fields located along Barranca Parkway in the southwestern part of the base, northwest of Jamboree Road in the southeastern part of the base, and on property south of Edinger Avenue along the northeastern boundary of the Air Station.

Military family housing is found in two places at the base. One cluster of 274 housing units is located along Edinger Avenue on the northwest edge of the base. The other cluster is located on the southeast edge of the Air Station. This cluster is composed of 1,263 housing units located along the eastern side of Peters Canyon Channel and is bounded by the Channel and Harvard Avenue and by Edinger Avenue and Barranca Parkway. The boundary between the City of Tustin and the City of Irvine crosses this housing area; 771 residential units are located in Tustin and 552 units are located in Irvine.

In 1992, Navy acquired 25 acres of undeveloped property east of the main property that it planned to develop as military family housing to support MCAS El Toro. When MCAS El Toro was designated for closure in 1993, there was no longer a requirement for the housing and Navy included this undeveloped property in the surplus Federal property associated with MCAS Tustin.

During the Federal screening process, one Federal agency, the Department of the Army (Army), requested an interagency transfer of base closure property at MCAS Tustin. Navy plans to transfer about 17 acres in the southwestern part of the Air Station along Barranca Parkway to Army. Army will continue to use this property as an Army Reserve Center. The remaining 1,585 acres at MCAS Tustin were declared surplus to the needs of the Federal Government.

The Environmental Analysis Process

Navy published a Notice of Intent in the Federal Register on July 5, 1994, announcing that Navy and the City of Tustin would jointly prepare an EIS/EIR under NEPQA and CEQA that would analyze the impacts of the disposal and reuse of MCAS Tustin. On July 20, 1994, Navy and the City held a public scoping meeting in the Tustin City Council Chambers at the Tustin Civic Center; the scoping process concluded on August 5, 1994.

Navy and the City distributed a Draft EIS/EIR (DEIS/EIR) on January 16, 1998, and commenced a 45-day public review and comment period. Both oral and written comments were received. On February 5, 1998, Navy and the City held a public hearing in the Tustin City Council Chambers.

After the public comment period for the DEIS/EIR concluded, Navy and the City modified the analysis for the disposal and reuse of MCAS Tustin and prepared a Revised DEIS/EIR. On July 9, 1999, Navy and the City distributed the Revised DEIS/EIR and commenced a 45-day public review and comment period. Again, both oral and written comments were received and considered. On August 11, 1999, Navy and the City held a public hearing on the Revised DEIS/EIR in the Tustin City Council Chambers.

Navy's and the City's responses to the public comments concerning the Revised DEIS/EIR were incorporated in the Final EIS/EIR (FEIS/EIR), which was distributed to the public on December 23, 1999, for a review period that concluded on January 24, 2000. Navy received eight letters commenting on the Final EIS/EIR.

Alternatives

In the FEIS/EIR, Navy analyzed the environmental impacts of three reuse alternatives for MCAS Tustin. Navy also evaluated a “No Action” alternative that considered leaving the property in caretaker status with Navy maintaining the physical condition of the property, providing a security force, and making repairs essential to safety.

In early December 1993, a Task Force established by the City Council of the city of Tustin composed of representatives of the cities of Tustin, Irvine and Santa Ana, Orange County, local area businesses, homeowner associations, residents of the City of Tustin and the United States Marine Corps proposed three reuse alternatives that it designated as the Arterial Loop Pattern/Large Community Core/Medium Residential Alternative (Alternative 1); the Arterial Grid Pattern/No Core/High Residential Alternative (Alternative 2); and the Arterial Loop Pattern/Low Residential Alternative (Alternative 3). On December 11, 1993, the Task Force conducted a public workshop to consider these three redevelopment proposals and selected Alternative 1 as the preferred option. Navy adopted these alternatives for in its environmental impact study.

On October 21, 1996, the City of Tustin approved the Marine Corps Air Station (MCAS) Tustin Specific Plan/Reuse Plan. On September 8, 1998, the City adopted the MCAS Tustin Specific Plan/Reuse Plan Errata. City Council Resolution No. 98-80. The 1993 Errata refined the 1996 reuse plan but did not change any of the land uses proposed in that plan. That plan is consistent with the Task Force identified preferred option, Alternative 1.

The Alternative Selected

The selected alternative, identified in the FEIS/EIR as Alternative 1, sets out a mix of land uses for MCAS Tustin. It dedicates about 686 acres and more than nine million square feet of space to commercial, research and development, and light industrial activities, 475 acres to residential development, 236 acres and more than two million square feet of space to institutional and recreational activities, and 187 acres to roadways and drainage facilities. The two historic blimp hangars, which together contain 660,416 square feet of space, are to be re-used if an economically feasible reuse is found for them.

At full build-out, the selected alternative will be characterized by an arterial loop roadway system. This roadway will circumscribe a 225-acre community Core (containing residential, commercial, and light industrial uses) as well as an 85-acre Urban Regional Park that surrounds Hangar 28. This alternative will allow or development of about 4,600 housing units. It will also reuse the military barracks as transitional housing for the homeless. The selected alternative includes development of one high school, three local elementary schools, one community park, and three neighborhood parks. Finally, this alternative foresees the development of educational and training facilities, offices, a 500-room hotel, an 18-hole golf course (available for public use), retail stores, and restaurants.

Other Alternatives

Navy analyzed a second reuse alternative, identified in the FEIS/EIR as Alternative 2. This Alternative dedicates about 681 acres and more than eight million square feet of space to commercial, research and development, and light industrial activities, 595 acres to residential uses, 178 acres to roadways and drainage facilities, and 131 acres and more than one million square feet of space to institutional and recreational activities.Similar to the Selected alternative, Hangar 28 would be adaptively used if an economically feasible reuse were found, but under this alternative, Hangar 29 would be demolished.

At full build-out, Alternative 2 allows for development of more housing (6,205 units) than that proposed by the selected alternative. Like the selected alternative, this alternative would allow for development of offices, schools, neighborhood parks, community parks, a hotel, an 18-hole golf course, retail stores, and restaurants, but in different densities. However, unlike the selected alternative, it does not develop a Community Core and an Urban Regional Park and the layout of the development would be characterized by a grid pattern system of roadways.

Navy analyzed a third reuse alternative, described in the FEIS/EIR as Alternative 3. This Alternative dedicates about 815 acres and more than nine million square feet of space to commercial, research and development, and light industrial activities, 446 acres to residential uses, 184 acres to roadways and drainage facilities, and 139 acres and more than one million square feet of space to institutional and recreational activities. Similarly to the selected alternative, Hangar 28 would be adaptively used if an economically feasible reuse were found, but under this alternative, hangar 29 would be demolished.

At full build-out, Alternative 3 allows for development of less housing (4,340 units) than that proposed by the selected alternative. As in the selected alternative, this alternative allows for development of offices, schools, neighborhood parks, community parks, a hotel, an 18-hole golf course, retail stores, and restaurants, but in different densities. Alternative 3 is characterized by an arterial loop roadway system similar to that proposed by the selected alternative, however, unlike the selected alternative, it does not immediately develop a Community Core within the loop, but sets aside 179 acres of land for future development; this alternative does not develop an Urban Regional Park.

Environmental Impacts

Navy analyzed the direct, indirect, and cumulative impacts of the disposal and reuse of MCAS Tustin for each alternative. Effects on land use, socioeconomics, utilities, public services and facilities, aesthetics, cultural and paleontological resources, biological resources, agricultural resources, soils and geology, water resources, hazardous wastes, substances and materials, traffic and circulation, air quality, and noise are discussed in detail in the EIS/EIR.

Significant Effects

The selected alternative will have a significant and unmitigable impact on agricultural resources. There are 702 acres at the Air Station that are currently being used for agricultural activities. The United States Department of Agriculture's Natural Resource Conservation Service has determined that 862 acres at MCAS Tustin meet the definition of prime farmland, defined as land that contains the best combination of physical and chemical features for the production of agricultural crops. The Service classified an additional 20 acres, located in the City of Irvine between Marble Mountain Road and Barranca Parkway, as farmland of statewide importance, which the Service defines as land that contains a good combination of physical and chemical features for the production of agricultural crops.

The Farmland Protection Policy Act, 7 U.S.C. 4201-4209 (1994), was enacted to minimize the extent to which Federal programs contribute to the unnecessary and irreversible conversion of farmland to nonagricultural purposes. In May 1999, pursuant to the Farmland Protection Policy Act, Navy and the Natural Resource Conservation Service conducted a Farmland Conversion Impact Rating of MCAS Tustin to determine whether the 702 acres of farmland in Tustin and Irvine qualified for protection under the Act. Navy concluded that this farmland did not qualify for such protection.

The selected alternative would not use any of the farmland for agricultural purposes. There is no long-term, feasible mitigation that would offset the impact of converting the farmland on MCAS Tustin to nonagricultural uses.

The selected alternative could have significant unmitigable impacts on visual resources. The two blimp hangars have been the most visibly dominant and unique marks on the landscape since their construction in 1942. The selected alternative could demolish one or both of these hangars if no economically feasible reuse were found after completion of a marketing survey. The loss of both of these hangars will constitute a significant unmitigable visual impact.

There will be other significant visual impacts that will result from changing the land uses at the Air Station from a less developed landscape with agricultural fields to a more developed urban setting. Integration of the new uses with adjacent land uses could, however, result in a beneficial impact.

The selected alternative could have a significant and unmitigable impact on cultural resources. In 1975, the two blimp hangars, Hangar 28 and Hangar 29, were placed on the National Register of Historic Places. In 1993, pursuant to Section 106 of the National Historic Preservation Act of 1966, 16 U.S.C. 470f (1994), and its implementing regulations, Protection of Historic Properties, 36 CFR Part 800, Navy performed a cultural resources survey to assess the potential impacts that could result from the disposal of MCAS Tustin. Navy concluded that seven other structures (Buildings 28A and 29A, and five blimp mooring mats) and their connecting roads were related to the World War II mission of the hangars and thus were eligible for listing on the National Register of Historic Places as a discontiguous historic district. In a letter dated June 28, 1996, the California State Historic Preservation Officer (SHPO) concurred with Navy's determination.

Navy has completed consultations with the Advisory Council on Historic Preservation and the SHPO. These consultations identified actions that Navy must take before it conveys property at MCAS Tustin and actions that the acquiring entities must take to avoid or mitigate adverse impacts on the structures that are listed or eligible for listing on the National Register. These obligations were set forth in a Memorandum Of Agreement (MOA), dated December 13, 1999, among Navy, the Advisory Council on Historic Preservation, and the California State Historic Preservation Officer. The City of Tustin, Orange County, and the United States Department of the Interior's National Park Service signed the MOA as concurring parties.

Navy has completed an Historic American Building Survey for the historic hangars and contributing structures in the discontiguous historic district; the National Park Service approved that survey on March 16, 2000. Navy will donate copies of plans and architectural drawings and other archival materials and records concerning the layout of the original blimp facility and its buildings and structures to the City of Tustin and to a local curation facility.

The MOA requires that Orange County and the City of Tustin undertake a marketing effort to determine whether there is an economically feasible reuse for Hangar 28 and its supporting Building 28A and for Hangar 29 and its supporting Building 29A. If those marketing efforts produce an economically feasible reuse for either or both hangars, then Navy will place an historic preservation covenant in the deed for the hangar and its associated building.

If there is no economically feasible reuse for Hanger 28 and Building 28A, as determined by the National Park Service (because Hangar 28 and Building 28A are situated on property to be acquired from Navy through the National Park Service by way of a public benefit conveyance) or for Hangar 29 and Building 29A, as determined by the SHPO, then Navy will not place an historic preservation covenant in the deed for these hangars and buildings. In that event, Orange County and the City of Tustin will undertake specific mitigation measures that are set forth in the MOA and consist of preparing a written history of the base, an interpretive exhibit, and a documentary film concerning the hangars and the base's World War II mission.

The selected alternative will have significant impacts on traffic circulation. By the year 2020, the Reuse Plan, if built out, will generate about 216,445 average daily motor vehicle trips compared with the 12,400 average daily trips that were associated with the Marine Corps' use of the property. The traffic generated can be predicted to cause substantial delays during peak commuting hours at seventeen intersections near the base.

The selected alternative will have significant impacts on air quality. The traffic predicted will increase ozone precursor emissions, carbon monoxide emissions, and sulfur oxide emissions above the South Coast Air Quality Management District's (SCAQMD) thresholds. Although the carbon monoxide emissions will exceed SCAQMD thresholds, they will not result in violations of current Federal or State standards for ambient air quality. However, the particulate matter emissions and the reactive organic compound emissions resulting from demolition, construction, and renovation activities over the 20-year build-out period will exceed the SCAQMD thresholds of significance in spite of mitigation undertaken by the acquiring entities. The selected alternative will not be consistent with the Final 1994 Air Quality Management plan for this region that was approved by the United States Environmental Protection Agency. Although this Plan acknowledges the closure of MCAS Tustin, it is not evident that the 1994 Plan considered the air emissions that would be generated by activities of the intensity proposed by the Reuse Plan.

Section 176(c) of the Clean air Act, 42 U.S.C. 7506 (1994), requires Federal agencies to review their proposed activities to ensure that these activities do not hamper local efforts to control air pollution. Section 176(c) prohibits Federal agencies from conducting activities in air quality areas, such as the South Coast Air Basin, that do not meet one or more of the national standards for ambient air quality, unless the proposed activities conform to an approved implementation plan. The United States Environmental Protection Agency regulations implementing Section 176(c) recognize certain categorically exempt activities. Conveyance of title to real property and certain leases are categorically exempt activities. 40 CFR 93.153(c)(2)(xiv) and (xix). Therefore, the disposal of MCAS Tustin will not require Navy to conduct a conformity determination.

The selected alternative could have significant impacts on “waters of the United States” that are subject to the regulations that implement Section 404 of the Clean Water Act, 33 U.S.C. 1344 (1994). These waters consist of about two acres of vegetated wetlands and about 29 acres of natural bottom stormwater channels. Of these 29 acres, thirteen acres are located in Peters Canyon Channel and would be affected by the Orange County Flood Control District's improvement of that Channel. These improvements would accommodate drainage resulting from the Reuse Plan, as noted above, and from redevelopment of the Eastern Transportation Corridor, a State toll road located east of the Air Station. While impacts on some or all of these waters may be avoided during the proposed redevelopment, it may be necessary for the acquiring entities to consult with the Army Corps of Engineers and with California environmental regulatory agencies and obtain permits for construction projects that do affect these waters.

The selected alternative could have significant noise impacts on the new housing and parks that would be built on the MCAS Tustin property. The construction of new roads and the resultant traffic would generate noise impacts on any residence and park located within 75 feet of the centerline of these roads. Additionally, the operations and maintenance activities of the Southern California Regional Rail Authority and the Orange County Transportation Authority along Edinger Avenue could have significant noise impacts on the proposed residential areas at Edinger Avenue. The use of noise attenuation measures such as barriers and insulation would reduce these potentially significant impacts to a less than significant level.

Less Than Significant Impacts of Disposal and Reuse

The selected alternative will not have an adverse impact on socioeconomics. Orange County expects the increases in employment, population, and housing that are reflected in the County projections upon which the local jurisdictions rely for land use planning. About 90 percent of the projected new jobs are expected to be filled by current residents of Tustin, Irvine, Santa Ana, and other communities in Orange County. The selected alternative will result in an increase in population of about 12,500 people in the vicinity of the base. By the full build-out year of 2020, the selected alternative will develop about 4,600 residential units on the former Air Station. These units will readily serve the projected increase in population.

The selected alternative will not have a significant impact on utilities. Utility distribution systems will be replaced or upgraded during the redevelopment. Although the projected demand for potable water would increase by about 1.5 million gallons per day over the Marine Corps' historical use, there is an adequate supply of water off the base and an adequate system to deliver that water to meet the projected daily demand. The local wastewater treatment plants in Tustin and Irvine have sufficient capacity to manage the projected average daily sewer flow of 2.5 million gallons.

The amount of solid waste generated will increase as a result of demolition, construction, and redevelopment activities but will decrease over time as the demolition and construction activities are completed. The local landfill has sufficient capacity to accommodate the solid waste that the selected alternative would generate.

The selected alternative will not have a significant impact on public services and facilities. The proposed redevelopment of MCAS Tustin will, however, increase the demand for police, fire, and emergency medical services. Additional personnel and equipment will be needed for each of these services to meet the demand created by the increase in new residents and jobs. This impact will not be significant and it will not be necessary to build new facilities.

The selected alternative will not have a significant impact on local school districts in the City of Tustin or the City of Irvine. As a direct result of the Reuse Plan, by the year 2020, an additional 1,473 students will live in the Tustin Unified School District, and an additional 959 students will live in the Irvine Unified School District. The selected alternative proposes to build two elementary schools and one high school on MCAS Tustin property in the Tustin district and one elementary school on MCAS Tustin property in the Irvine district. The availability of these properties, combined with State statutory development fees, redevelopment taxes, special district financing and other funding sources, will provide sufficient resources to build the four schools.

The selected alternative did not propose to build new residential units or new schools in that part of the Air Station that is located in the Santa Ana district. However, the Reuse Plan will create new employment opportunities that could result in an increase in the number of students residing in neighborhoods served by the Santa Ana district. The precise nature of this indirect impact on the Sana Ana district will not be known until the Reuse Plan is built out.

The selected alternative will not have a significant impact on libraries, parks, recreational facilities, and bike paths and trails. There are three libraries located within three miles of the Air Station that would adequately serve the current and projected residents. The selected alternative proposes to develop three kinds of parks to accommodate the current and projected demands for recreational resources. The General Plans of Tustin and Irvine require three acres of parks for every 1,000 residents. The City of Tustin currently has a deficit of 100 acres of parks and recreational areas, and the selected alternative's increase in population will generate a requirement to provide an additional 33 acres for the 10,900 new residents. The selected alternative will develop 127 acres of parks and recreational areas in Tustin to satisfy nearly its entire General Plan requirement. In the City of Irvine, the selected alternative will develop 18 acres of parks and recreational areas, which will exceed its requirement to provide five additional acres of parks and recreational areas for the 1,600 new residents. The selected alternative provides for development of recreational bike paths and trails in Tustin and Irvine and will incorporate bicycling lanes and parking areas in satisfaction of the South Coast Air Quality Management District's air quality regulations.

The selected alternative will not have a significant impact on geology and soils. The Air Station is located in an area known for seismic activity and non-seismic geologic conditions such as local soil settlement, soil expansion, and erosion. Existing structures that are renovated and new structures that are built will be required to meet current building codes governing seismic safety. State and local laws and regulations and the use of standard soil erosion and sedimentation control measures during construction will ensure that significant impacts are avoided.

The selected alternative will not have a significant impact on the environment arising out of the use or generation of hazardous substances by the acquiring entities. Construction activities that include dewatering or disturbing subsurface soils would be subject to the institutional controls set forth in the process required by the Comprehensive Environmental Response, Compensation, and Liability Act of 1980 (CERCLA), 42 U.S.C. 9601-9675q (1994). These controls will ensure that construction activities do not affect the groundwater gradient and cause migration of contaminants.

Executive Order 12898, Federal Actions to Address Environmental Justice in Minority Populations and Low-Income Populations, 3 CFR 859 (1995), requires that Navy determine whether any low income and minority populations will experience disproportionately high and adverse human health or environmental effects from the proposed action. Navy analyzed the impacts on low income and minority populations pursuant to Executive Order 12898. The FEIS addressed the potential environmental, social, and economic impacts associated with the disposal of MCAS Tustin and subsequent reuse of the property under the three proposed alternatives. None of the reuse alternatives will have a disproportionate impact on minority populations or low income populations. Although the adjacent City of Santa Ana has a greater proportion of minority residents and low income residents than the City of Tustin, the City of Irvine, and Orange County, there are no significant unmitigable impacts that affect only the City of Santa Ana. Indeed, the increased employment opportunities, housing, and recreational resources generated by the selected alternative would have beneficial effects.

Navy also analyzed the impacts on children as required by pursuant to Executive Order 13045, Protection of Children from Environmental Health Risks and Safety Risks, 3 CFR 198 (1998). Under the selected alternative, the largest concentration of children would be present in the residential, educational, and recreational areas. The selected alternative would not pose any disproportionate environmental health or safety risks to children.

Mitigation

Implementation of Navy's decision to dispose of MCAS Tustin does not require Navy to implement any mitigation measures. Navy will take certain actions to implement existing agreements and to comply with regulations. These actions were treated in the FEIS as agreements or regulatory requirements rather than as mitigation. If, after completion of the marketing surveys, an economically feasible reuse is found for Hangar 28 and Building 28A and for Hangar 29 and Building 29A, Navy will place historic preservation covenants in the deeds that convey these hangars and buildings. In the event that the property is ready for conveyance before the marketing surveys are completed, Navy will place historic preservation covenants in the deeds in accordance with the MOA.

The FEIS identified and discussed those actions that will be necessary to mitigate the environmental impacts associated with the reuse and redevelopment of MCAS Tustin. The Acquiring entities, under the direction of Federal, State, and local agencies with regulatory authority over protected resources, will be responsible for implementing necessary environmental mitigation measures.

Comments Received on the FEIS

Navy received comments on the FEIS from one State agency, three local agencies, two private organizations, and two persons. The State agency was California's Department of Transportation. The local agencies were Orange County, the City of Irvine, and the City of Santa Ana. The private organizations were the Irvine Business Consortium and The Gas Company.

All of the substantive comments received concerned the same issues raised in comments submitted on the DEIS. These substantive issues were fully addressed in the FEIS and require no further discussion here. Several of the comments received addressed the efforts of Santa Ana Unified School District to obtain some of the former MCAS Tustin property to construct new educational facilities. The City of Tustin and the Santa Ana Unified School District laudably continue to look for a solution within the parameters of the approved reuse plan, the Federal Property Act, and the Defense Base Closure and Realignment Act. Continuing discussion among the federal, state and local governmental entities responsible for identifying, screening and requesting transfer of surplus federal property pursuant to a Public Benefit Conveyance for educational use, such as the U.S. Department of Education, is the appropriate process for resolving this issue.

Regulations Governing the Disposal Decision

Since the proposed action contemplates a disposal under the Defense Base Closure and Realignment Act of 1990 (DBCRA), Public Law 101-510, 10 U.S.C. 2687 note (1994), Navy's decision was based upon the environmental analysis in the FEIS/EIR and application of the standards set forth in the DBCRA, the Federal Property Management Regulations (FPMR), 41 CFR Part 101-47, and the Department of Defense Rule on Revitalizing Base Closure Communities and Community Assistance (DoD Rule), 32 CFR Parts 174 and 175.

Section 101-47.303-1 of the FPMR requires that disposals of Federal property benefit the Federal Government and constitute the “highest and best use” of the property. Section 101-47.4909 of the FPMR defines the “highest and best use” as that use to which a property can be put that produces the highest monetary return from the property, promotes its maximum value, or serves a public or institutional purpose. The “highest and best use” determination must be based upon the property's economic potential, qualitative values inherent in the property, and utilization factors affecting land use such as zoning, physical characteristics, other private and public uses in the vicinity, neighboring improvements, utility services, access, roads, location, and environmental and historic considerations.

After Federal property has been conveyed to non-Federal entities, the property is subject to local land use regulations, including zoning and subdivision regulations, and building codes. Unless expressly authorized by statute, the disposing Federal agency cannot restrict the future use of surplus Government property. As a result, the local community exercises substantial control over future use of the property. For this reason, local land use plans and zoning affect determination of the “highest and best use” of surplus Government property.

The DBCRA directed the Administrator of the General Services Administration (GSA) to delegate to the Secretary of Defense authority to transfer and dispose of base closure property. Section 2905(b) of the DBCRA directs the Secretary of Defense to exercise this authority in accordance with GSA's property disposal regulations, set forth in Part 101-47 of the FPMR. By letter dated December 20, 1991, the Secretary of Defense delegated the authority to transfer and dispose of base closure property closed under the DBCRA to the Secretaries of the Military Departments. Under this delegation of authority, the Secretary of the Navy must follow FPMR procedures for screening and disposing of real property when implementing base closures. Only where Congress has expressly provided additional authority for disposing of base closure property, e.g., the economic development conveyance authority established in 1993 by Section 2905(b)(4) of the DBCRA, may Navy apply disposal procedures other than those in the FPMR.

In Section 2901 of the National Defense Authorization Act for Fiscal Year 1994, Public Law 103-160, Congress recognized the economic hardship occasioned by base closures, the Federal interest in facilitating economic recovery of base closure communities, and the need to identify and implement reuse and redevelopment of property at closing installations. In Section 2903(c) of Public Law 103-160, Congress directed the Military Departments to consider each base closure community's economic needs and priorities in the property disposal process. Under Section 2905(b)(2)(E) of the DBCRA, Navy must consult with local communities before it disposes of base closure property and must consider local plans developed for reuse and redevelopment of the surplus Federal property.

The Department of Defense's goal, as set forth in Section 174.4 of the DoD Rule, is to help base closure communities achieve rapid economic recovery through expeditious reuse and redevelopment of the assets at closing bases, taking into consideration local market conditions and locally developed reuse plans. Thus, the Department has adopted a consultative approach with each community to ensure that property disposal decisions consider the LRA's reuse plan and encourage job creation. As a part of this cooperative approach, the base closure community's interests, as reflected in its zoning for the area, play a significant role in determining the range of alternatives considered in the environmental analysis for property disposal. Furthermore, Section 175.7(d)(3) of the DoD Rule provides that the LRA's plan generally will be used as the basis for the proposed disposal action.

The Federal Property and Administrative Services Act of 1949, 40 U.S.C. 484 (1994), as implemented by the FPMR, identifies several mechanisms for disposing of surplus base closure property: by public benefit conveyance (FPMR Sec. 101-47.303-2); by negotiated sale (FPMR Sec. 10-47.304-9); and by competitive sale (FPMR 101-47.304-7). Additionally, in Section 2905(b)(4), the DBCRA established economic development conveyances as a means of disposing of surplus base closure property.

The selection of any particular method of conveyance merely implements the Federal agency's decision to dispose of the property. Decisions concerning whether to undertake a public benefit conveyance or an economic development conveyance, or to sell property by negotiation or by competitive bid, are left to the Federal agency's discretion. Selecting a method of disposal implicates a broad range of factors and rests solely within the Secretary of the Navy's discretion.

Conclusion

The LRA's proposed reuse of Marine Corps Air Station Tustin, reflected in the Reuse Plan, is consistent with the requirements of the FPMR and Section 174.4 of the DoD Rule. The LRA has determined in its Reuse Plan that the property should be used for various purposes including residential, commercial, educational, research and development, and light industrial activities and to develop parks and recreational areas. The property's location, physical characteristics, and existing infrastructure as well as the current uses of adjacent property make it appropriate for the proposed uses.

Although the “No Action” Alternative has less potential for causing adverse environmental impacts, this alternative would not take advantage of the location, physical characteristics, and infrastructure of MCAS Tustin or the current uses of adjacent property. Additionally, it would not foster local economic redevelopment of the base.

The acquiring entities, under the direction of Federal, State, and local agencies with regulatory authority over protected resources, will be responsible for adopting practicable means to avoid or minimize environmental harm that may result from implementing the Reuse Plan.

Accordingly, Navy plans to dispose of MCAS Tustin in a manner that is consistent with the land uses identified in the LRA's Reuse Plan for the property.

Dated: February 9, 2001.
Duncan Holaday,
Senior Civilian Official, Office of the Assistant Secretary of the Navy, (Installations and Environment).

[FR Doc. 01-5127 Filed 3-1-01; 8:45 am]

BILLING CODE 3810-FF-M